DEPARTMENT OF ENERGY

Federal Energy Regulatory Commission

Combined Notice of Filings #1

Take notice that the Commission received the following electric rate filings:

Docket Numbers: ER20-2574-002.

Applicants: Southwest Power Pool, Inc., American Electric Power Service Corporation.

Description: Compliance filing: American Electric Power Service Corporation submits tariff filing per 35: AEP West Operating Companies Compliance Filing Pursuant to Order Issued to be effective 1/27/2020.

Filed Date: 5/25/22.

Accession Number: 20220525-5047.

Comment Date: 5 p.m. ET 6/15/22.

Docket Numbers: ER21-1807-003.

Applicants: Hill Top Energy Center LLC.

Description: Refund Report: Refund Report to be effective N/A.

Filed Date: 5/25/22.

Accession Number: 20220525-5171.

Comment Date: 5 p.m. ET 6/15/22.

Docket Numbers: ER22-1439-001.

Applicants: EdSan 1B Group 1 Edwards, LLC.

Description: Tariff Amendment: Amendment to Petition for Market-Based Rate Authorization to be effective 5/24/2022.

Filed Date: 5/25/22.

Accession Number: 20220525-5140.

Comment Date: 5 p.m. ET 6/15/22.

Docket Numbers: ER22-1440-001.

Applicants: EdSan 1B Group 1 Sanborn, LLC.

Description: Tariff Amendment: Amendment to Petition for Market-Based Rate Authorization to be effective 5/24/2022.

Filed Date: 5/25/22.

Accession Number: 20220525-5145.

Comment Date: 5 p.m. ET 6/15/22.

Docket Numbers: ER22-1441-001.

Applicants: EdSan 1B Group 2, LLC.

Description: Tariff Amendment: Amendment to Petition for Market-Based Rate Authorization to be effective 5/24/2022.

Filed Date: 5/25/22.

Accession Number: 20220525-5150.

Comment Date: 5 p.m. ET 6/15/22.

Docket Numbers: ER22-1948-000.

Applicants: Public Service Company of New Mexico.

Description: § 205(d) Rate Filing: TRANSFER OF OPERATIONAL CONTROL AND MAINTENANCE AGREEMENT to be effective 5/24/2022.

Filed Date: 5/24/22.

Accession Number: 20220524-5153.

Comment Date: 5 p.m. ET 6/14/22.

Docket Numbers: ER22-1949-000.

Applicants: PJM Interconnection, L.L.C.

Description: § 205(d) Rate Filing: Amendment to ISA, Service Agreement No. 6103; Queue Nos. AC1-091/AC1-092 et al to be effective 6/10/2021.

Filed Date: 5/25/22.

Accession Number: 20220525-5051.

Comment Date: 5 p.m. ET 6/15/22.

Docket Numbers: ER22-1950-000.

Applicants: Southwest Power Pool, Inc.

Description: § 205(d) Rate Filing: Revisions to Update the Transmission Owner Selection Process to be effective 7/25/2022.

Filed Date: 5/25/22.

Accession Number: 20220525-5075.

Comment Date: 5 p.m. ET 6/15/22.

Docket Numbers: ER22-1951-000.

Applicants: American Transmission Systems, Incorporated, PJM Interconnection, L.L.C.

Description: § 205(d) Rate Filing: American Transmission Systems, Incorporated submits tariff filing per 35.13(a)(2)(iii: ATSI AMPT Revised IA No. 5196 to be effective 5/26/2022.

Filed Date: 5/25/22.

Accession Number: 20220525-5088.

Comment Date: 5 p.m. ET 6/15/22.

Docket Numbers: ER22-1952-000.

Applicants: Priogen Power LLC.

Description: Notice of Cancellation of Market Based Rate Tariff of Priogen Power LLC.

Filed Date: 5/25/22.

Accession Number: 20220525-5107.

Comment Date: 5 p.m. ET 6/15/22.

Docket Numbers: ER22-1953-000.

Applicants: Unitil Energy Systems, Inc.

Description: Notice of Termination of Interim Distribution Wheeling Agreement of Unitil Energy Systems, Inc.

Filed Date: 5/24/22.

Accession Number: 20220524-5200.

Comment Date: 5 p.m. ET 6/14/22.

Docket Numbers: ER22-1954-000.

Applicants: Mid-Georgia Cogen L.P.

Description: § 205(d) Rate Filing: Revised Market-Based Rate Tariff to be effective 7/24/2022.

Filed Date: 5/25/22.

Accession Number: 20220525-5161.

Comment Date: 5 p.m. ET 6/15/22.

Docket Numbers: ER22-1955-000.

Applicants: Midcontinent Independent System Operator, Inc.

Description: § 205(d) Rate Filing: 2022-05-25_Att FF Upgrades related to Competitive Transmission Process to be effective 7/25/2022.

Filed Date: 5/25/22.

Accession Number: 20220525-5166.

Comment Date: 5 p.m. ET 6/15/22.

Take notice that the Commission received the following public utility holding company filings:

Docket Numbers: PH22-15-000.

Applicants: Unison Energy, LLC, AIM Universal Holdings, LLC, Hunt Companies, Inc.

Description: Unison Energy, LLC, et al., submits FERC-65A Notice of Change in Fact to Waiver Notification.

Filed Date: 5/25/22.

Accession Number: 20220525-5109.

Comment Date: 5 p.m. ET 6/15/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2022.
Debbie-Anne A. Reese,
Deputy Secretary.

[FR Doc. 2022-11724 Filed 5-31-22; 8:45 am]

BILLING CODE 6717-01-P